DEPARTMENT OF THE INTERIOR

Minerals Management Service

[Docket No: MMS-2008-OMM-0030]

MMS Information Collection Activity: 1010-0059, Oil and Gas Production Safety Systems, Extension of an Information Collection; Submitted for Office of Management and Budget (OMB) Review; Comment Request

AGENCY: Minerals Management Service (MMS), Interior.

ACTION: Notice of an extension of an information collection (1010-0059).

SUMMARY: To comply with the Paperwork Reduction Act of 1995 (PRA), MMS is inviting comments on a collection of information that we will submit to the Office of Management and Budget (OMB) for review and approval. The information collection request (ICR) concerns the paperwork requirements in the regulations under 30 CFR part 250, subpart H, “Oil and Gas Production Safety Systems.”

DATES: Submit written comments by August 18, 2008.

ADDRESSES: You may submit comments by either of the following methods listed below.

• Electronically: Go to http://www.regulations.gov. Under the tab “More Search Options,” click Advanced Docket Search, then select “Minerals Management Service” from the agency drop-down menu, then click “submit.” In the Docket ID column, select MMS-2008-OMM-0030 to submit public comments and to view supporting and any related materials. Information on using Regulations.gov, including instructions for accessing documents, submitting comments, and viewing the docket after the close of the comment period, is available through the site's “User Tips” link. The MMS will post all comments.

• Mail or hand-carry comments to the Department of the Interior; Minerals Management Service; Attention: Cheryl Blundon; 381 Elden Street, MS-4024; Herndon, Virginia 20170-4817. Please reference “Information Collection 1010-0059” in your subject line and mark your message for return receipt. Include your name and return address in your message text.

FOR FURTHER INFORMATION CONTACT: Cheryl Blundon, Regulations and Standards Branch at (703) 787-1607. You may also contact Cheryl Blundon to obtain a copy, at no cost, of the regulations that require the subject collection of information.

SUPPLEMENTARY INFORMATION: Title: 30 CFR part 250, subpart H, Oil and Gas Production Safety Systems.

OMB Control Number: 1010-0059.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The OCS Lands Act at 43 U.S.C. 1332(6) states that “operations in the [O]uter Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

This notice concerns the reporting and recordkeeping elements of 30 CFR part 250, subpart H, Oil and Gas Production Safety Systems, and related Notices to Lessees and Operators (NTLs) that clarify and provide additional guidance on some aspects of the regulations.

The MMS OCS Regions use the information submitted under subpart H to evaluate equipment and/or procedures that lessees propose to use during production operations, including evaluation of requests for departures or use of alternative procedures. Information submitted is also used to verify the no-flow condition of wells to continue the waiver of requirements to install valves capable of preventing backflow. The MMS inspectors review the records maintained to verify compliance with testing and minimum safety requirements.

We will protect information from respondents considered proprietary under the Freedom of Information Act (5 U.S.C. 552) and its implementing regulations (43 CFR part 2) and under regulations at 30 CFR 250.197, “Data and information to be made available to the public or for limited inspection,” and 30 CFR part 252, “OCS Oil and Gas Information Program.” No items of a sensitive nature are collected. Responses are mandatory.

Frequency: On occasion or annual.

Estimated Number and Description of Respondents: Approximately 130 Federal OCS oil and gas or sulphur lessees.

Estimated Reporting and Recordkeeping “Hour” Burden: The currently approved annual reporting burden for this collection is 17,598 hours. The following chart details the individual components and respective hour burden estimates of this ICR. In calculating the burdens, we assumed that respondents perform certain requirements in the normal course of their activities. We consider these to be usual and customary and took that into account in estimating the burden.

Citation 30 CFR 250 subpart H and NTL(s) | Reporting and recordkeeping requirement | Hour burden: Non-hour cost burden
Reporting
800; 801; 802; 803; related NTLs | Submit application and request approval for design, installation, and operation of subsurface safety devices and surface production-safety systems; including related requests for departures or use of alternative procedures (supervisory control and data acquisition systems, valve closure times, time delay circuitry, etc.) | 8.
801(g) | Submit annual verification of no-flow condition of well | 2.
801(h)(2); 803(c) | Identify well with sign on wellhead that subsurface safety device is removed; flag safety devices that are out of service | Usual/customary safety procedure for removing or identifying out-of-service safety devices.
802(e) | Submit statement/application certifying final surface production safety system installed conforms to approved design with ≥125 components | 4. $4,750 per submission. $12,400 per offshore visit. $13,000 per shipyard visit.
| ≥=25-125 components | 4. $1,150 per submission $7,850 per offshore visit $4,500 per shipyard visit
| ≥25 components | 4. $570 per submission.
| Submit modification certifying final surface production safety system installed conforms to approved design with ≥125 components | 3. $530 per submission.
| ≥=25-125 components | 3. $190 per submission.
| < 25 components | 3 $80 per submission.
803(b)(2) | Submit required documentation under API RP 17J | 50.
803(b)(8); related NTLs | Submit information (risk assessment) to request “new” firefighting system departure approval (GOMR) | 8.
803(b)(8); related NTLs | Submit information (risk assessment) to retain current firefighting system departure approval (GOMR) | 8.
803(b)(8)(iv); (v) | Post diagram of firefighting system; furnish evidence firefighting system suitable for operations in subfreezing climates | 2.
804(a)(12); 800 | Notify MMS prior to production when ready to conduct pre-production test and upon commencement for a complete inspection | ½.
804; related NTLs | Request departure from testing schedule requirements | 1.
804; related NTL | Submit copy of state-required Emergency Action Plan (EAP) containing test abatement plans (Pacific OCS Region) | 1.
806(c) | Request evaluation and approval of other quality assurance programs covering manufacture of SPPE | 2.
800-807 | General departure and alternative compliance requests not specifically covered elsewhere in subpart H regulations | 4.
Recordkeeping
801(h)(2); 802(e); 804(b) | Maintain records on subsurface and surface safety devices to include approved design & installation features, testing, repair, removal, etc | 20.
803(b)(1)(iii), (2)(i) | Maintain pressure-recorder charts | 12.
803(b)(4)(iii) | Maintain schematic of the emergency shutdown (ESD) which indicates the control functions of all safety devices | 6.
803(b)(11) | Maintain records of wells that have erosion-control programs and results for 2 years; make available to MMS upon request | 4.

Estimated Reporting and Recordkeeping “Non-Hour Cost” Burden: The currently OMB approved non-hour cost burdens total $544,877. We have identified nine non-hour cost burdens for this collection. These non-hour cost burdens consist of service fees which are determined by the number of components involved in the review and approval process; along with the cost of the offshore and/or shipyard visits under § 250.802(e). We have not identified any other non-hour cost burdens.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information . * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: June 5, 2008.
E.P. Danenberger,
Chief, Office of Offshore Regulatory Programs.

[FR Doc. E8-13663 Filed 6-17-08; 8:45 am]

BILLING CODE 4310-MR-P